ENVIRONMENTAL PROTECTION AGENCY

[FRL-9690-6]

Cross-Media Electronic Reporting: Authorized Program Revision Approval, State of Delaware

AGENCY: Environmental Protection Agency (EPA).

ACTION: Notice.

SUMMARY: This notice announces EPA's approval of the State of Delaware's request to revise its EPA-authorized program under the “Approval and Promulgation of State Implementation Plans” requirements in the Code of Federal Regulations to allow electronic reporting.

DATES: EPA's approval is effective June 20, 2012.

FOR FURTHER INFORMATION CONTACT: Evi Huffer, U.S. Environmental Protection Agency, Office of Environmental Information, Mail Stop 2823T, 1200 Pennsylvania Avenue NW., Washington, DC 20460, (202) 566-1697, huffer.evi@epa.gov, U.S. Environmental Protection Agency, Office of Environmental Information, Mail Stop 2823T, 1200 Pennsylvania Avenue NW., Washington, DC 20460, (202) 566-1175, seeh.karen@epa.gov.

SUPPLEMENTARY INFORMATION: On October 13, 2005, the final Cross-Media Electronic Reporting Regulation (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR requires that state, tribal or local government agencies that receive, or wish to begin receiving, electronic reports under their EPA-authorized programs must apply to EPA for a revision or modification of those programs and obtain EPA approval. Subpart D provides standards for such approvals based on consideration of the electronic document receiving systems that the state, tribe, or local government will use to implement the electronic reporting. Additionally, § 3.1000(b) through (e) of 40 CFR part 3, subpart D provides special procedures for program revisions and modifications to allow electronic reporting, to be used at the option of the state, tribe or local government in place of procedures available under existing program-specific authorization regulations. An application submitted under the subpart D procedures must show that the state, tribe or local government has sufficient legal authority to implement the electronic reporting components of the programs covered by the application and will use electronic document receiving systems that meet the applicable subpart D requirements. Once an authorized program has EPA's approval to accept electronic documents under certain programs, CROMERR § 3.1000(a)(4) requires that the program keep EPA apprised of any changes to laws, policies, or the electronic document receiving systems that have the potential to affect the program's compliance with CROMERR § 3.2000.

On August 19, 2011, the Delaware Department of Natural Resources and Environmental Control (DE DNREC) submitted an amended application titled “Online Reporting System Electronic Document Receiving System” for revision of its EPA-approved electronic reporting program under its title 40 CFR part 52 authorized program to allow new electronic reporting. EPA reviewed DE DNREC's request to revise its EPA-authorized program and, based on this review, EPA determined that the application met the standards for approval of authorized program revisions set out in 40 CFR part 3, subpart D. In accordance with 40 CFR 3.1000(d), this notice of EPA's decision to approve Delaware's request to revise its Part 52—Approval and Promulgation of Implementation Plans authorized program to allow electronic reporting of permits for minor sources under 40 CFR parts 51, is being published in the Federal Register. DE DNREC was notified of EPA's determination to approve its application with respect to this authorized program.

Dated: June 13, 2012.
Andrew Battin,
Director, Office of Information Collection.

[FR Doc. 2012-15019 Filed 6-19-12; 8:45 am]

BILLING CODE 6560-50-P